ENVIRONMENTAL PROTECTION AGENCY

[FRL-8567-7]

EPA's 2008 Report on the Environment

AGENCY: Environmental Protection Agency (EPA).

ACTION: Notice of Availability.

SUMMARY: EPA is announcing the availability of a final report titled, “EPA's 2008 Report on the Environment” (EPA/600/R-07/045F), which was prepared by the National Center for Environmental Assessment (NCEA) within EPA's Office of Research and Development (ORD) with significant input from partners across EPA and other federal agencies.

EPA's 2008 Report on the Environment (2008 EPA ROE) compiles the most reliable indicators available to help understand important trends in the environment and human health. The indicators are supported by data that are as current as possible (data included in the 2008 EPA ROE are as recent as October 2007). Additionally, the report identifies key limitations of these indicators and gaps where reliable indicators do not yet exist. These gaps and limitations highlight the disparity between the current state of knowledge and the goal of full, reliable, and insightful representation of environmental conditions and trends, and provide direction for future research and monitoring efforts.

DATES: This document will be available on or about May 20, 2008.

ADDRESSES: The document will be available electronically through the NCEA Web site at http://www.epa.gov/ncea. The main distribution method for this report will be via the Internet. A limited number of paper copies and compact disks, however, will be available from the EPA's National Service Center for Environmental Publications (NSCEP), P.O. Box 42419, Cincinnati, OH 45242; telephone: 1-800-490-9198; facsimile: 301-604-3408; e-mail: nscep@bps-lmit.com. Please provide your name, your mailing address, and the title and EPA number of the requested publication.

FOR FURTHER INFORMATION CONTACT: The Information Management Team, National Center for Environmental Assessment (8601P), U.S. Environmental Protection Agency, 1200 Pennsylvania Avenue, NW., Washington, DC 20460. Telephone: 703-347-8561; fax: 703-347-8691; e-mail: nceadc.comment@epa.gov.

SUPPLEMENTARY INFORMATION: To accomplish its mission to protect human health and the environment, the U.S. Environmental Protection Agency (EPA) must pay close attention to trends in the condition of the nation's air, water, and land, as well as related trends in human health and ecological systems. To meet this need, EPA embarked on a bold initiative in 2001 to assemble, for the first time, the most reliable available indicators of national environmental and health conditions and trends that are important to EPA's mission. EPA initially presented these indicators in its Draft Report on the Environment (ROE) Technical Document (TD), and its publicly oriented companion document, the Draft Report on the Environment (ROE), both released in 2003. For the 2008 EPA ROE, both the proposed indicators included in the report and the complete draft document were subjected to rigorous, independent, and external peer review, as well as public comment. Complete documentation of the peer review process and responses are available at http://www.epa.gov/ncea.roe. Thus, EPA has revised, updated, and refined the 2003 draft ROE in response to scientific developments, as well as feedback from EPA's Science Advisory Board and stakeholders. As a result, the 2008 EPA ROE provides both an update and an improvement over the 2003 draft edition.

EPA is also producing a Highlights of Conditions and Trends document, which summarizes the findings of the 2008 EPA ROE in an easier-to-understand format. The Highlights Document is expected to be publicly available later in the year.

EPA is committed to releasing periodic updates of the ROE so that information on environmental conditions and trends can be provided to interested members of the public.

Dated: May 13, 2008.
George Gray,
Assistant Administrator, Office of Research and Development.

[FR Doc. E8-11132 Filed 5-19-08; 8:45 am]

BILLING CODE 6560-50-P